SMALL BUSINESS ADMINISTRATION

Revocation of License of Small Business Investment Company

Pursuant to the authority granted to the United States Small Business Administration by the Prospero Ventures of the United States District Court for the Northern District of Washington, Oakland Division, dated Prospero Ventures, the United States Small Business Administration hereby revokes the license of Prospero Ventures, L.P. a California Limited Partnership, to function as a small business investment company under the Small Business Investment Company License No. 979-0422 issued to Prospero Ventures, L.P. on September 29, 1999 and said license is hereby declared null and void as of September 15, 2010.

United States Small Business Administration.
Dated: April 27, 2011.
Sean J. Greene,
Associate Administrator for Investment.

[FR Doc. 2011-10776 Filed 5-3-11; 8:45 am]

BILLING CODE 8025-01-P